DEPARTMENT OF THE TREASURY

Submission for OMB Review; Comment Request

September 4, 2009.

The Department of the Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before November 10, 2009 to be assured of consideration.

Office of Financial Stability (OFS)

OMB Number: 1505-0218.

Type of Review: Extension.

Title: Application for Grants to States for Low-Income Housing Projects in lieu of Tax Credits.

Description: Authorized under the American Recovery and Reinvestment Act (ARRA), hereafter Recovery Act of 2009 (Pub. L. 111-5), the Department of the Treasury is implementing several provisions of the Act, more specifically Division B—Tax, Unemployment, Health, State Fiscal Relief, and Other Provisions. Among these components is a program which requires Treasury to make payments, in lieu of a tax credit, to state housing credit agencies. State housing credit agencies use the funds to make subawards to finance the construction or acquisition and rehabilitation of qualified low-income buildings. The collection of information is necessary to properly identify recipients and determine the appropriate amount of funding. The information will be used to (1) identify eligible recipients; (2) determine the appropriate amount of funding; (3) ensure compliance with applicable laws; and (4) report on the effectiveness of the program.

Respondents: Individuals or Households.

Estimated Total Reporting Burden: 14 hours.

OMB Number: 1505-0221.

Type of Review: Extension.

Title: Application for Grants for Reimbursement of Specified Energy Property Costs.

Description: Authorized under the American Recovery and Reinvestment act (ARRA), hereafter Recovery Act, the Department of the Treasury is implementing several provisions of the Act, specifically Division B—Tax, Unemployment, Health, Fiscal Relief, and Other Provisions. Among these components is a program that requires Treasury to make payments, in lieu of a tax credit, to persons who place in service qualified renewable energy property. The collection of information is necessary to identify recipients and evaluate whether or not the property is qualified.

Respondents: State, Local, or Tribal Governments.

Estimated Total Reporting Burden: 2,000 hours.

Clearance Officer: Ellen Neubauer, (202) 927-9627, 1500 Pennsylvania Avenue, Room 2064D, Washington, DC 20220.

Robert Dahl,
Treasury PRA Clearance Officer.

[FR Doc. E9-21844 Filed 9-10-09; 8:45 am]

BILLING CODE 4810-25-P